COMMISSION ON CIVIL RIGHTS

Sunshine Act Notice

AGENCY: United States Commission on Civil Rights.

ACTION: Notice of meeting.

DATE AND TIME: Friday, April 13, 2012; 9:30 a.m. EDT.

PLACE: 624 Ninth Street NW., Room 540, Washington, DC 20425.

Briefing Agenda

This briefing is open to the public.

Sex Trafficking as a Gender-Based Violation of Civil Rights

Introductory Remarks by the Chairman

Panel 1

Panelist Statements

Discussion

Panel 2

Panelist Statements

Discussion

Panel 3

Panelist Statements

Discussion

Adjourn Briefing

Meeting Agenda

This meeting is open to the public.

I. Approval of Agenda

II. Approval of the March 9, 2012 Meeting Minutes

III. Comments from the USCCR Inspector General

IV. Management and Operations

• Discussion on Agency Staffing

• Staff Director's Report

V. Program Planning Update and discussion of projects

• VRA Statutory Enforcement Report Update

VI. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: April 3, 2012.
Kimberly Tolhurst,
Senior Attorney-Advisor.

[FR Doc. 2012-8356 Filed 4-3-12; 4:15 pm]

BILLING CODE 6335-01-P